DEPARTMENT OF HOMELAND SECURITY

U.S. Citizenship and Immigration Services

[CIS No. 2500-10; DHS Docket No. USCIS 2010-0016]

RIN 1615-ZB01

Extension and Redesignation of Haiti for Temporary Protected Status

AGENCY: U.S. Citizenship and Immigration Services, DHS.

ACTION: Notice.

SUMMARY: This notice announces that the Secretary of Homeland Security (Secretary) is both extending the existing designation of Haiti for temporary protected status (TPS) for 18 months from July 23, 2011 through January 22, 2013, and redesignating Haiti for TPS for 18 months, effective July 23, 2011 through January 22, 2013. The extension allows current eligible TPS beneficiaries to retain their TPS through January 22, 2013. The redesignation of Haiti allows additional individuals who have been continuously residing in the United States since January 12, 2011, to obtain TPS, if eligible, including certain Haitians who arrived in the United States following the January 12, 2010 earthquake in Haiti.

Under the redesignation, individuals who currently do not have TPS, or a TPS application pending, may apply for TPS from May 19, 2011 through November 15, 2011. In addition to demonstrating continuous residence in the United States since January 12, 2011, initial applicants for TPS under this redesignation must demonstrate that they have been continuously physically present in the United States since July 23, 2011, the effective date of the redesignation of Haiti.

For individuals who have already been granted Haiti TPS, the 90-day re-registration period will run from May 23, 2011 through August 22, 2011. The Department will publish a Federal Register notice in May with complete information on the re-registration procedures, including the automatic 6-month extension of currently valid employment authorization documents (EADs) that expire July 22, 2011. However, current Haiti TPS beneficiaries may not apply for re-registration until May 23, 2011. Applications and fees submitted before that date will be rejected and will have to be resubmitted once the re-registration period starts.

TPS applications that were filed during the first Haiti designation that opened on January 21, 2010, and remain pending on May 19, 2011 will be treated as initial applications under the redesignation. Therefore, individuals who have a pending TPS application will not need to file a new Application for Temporary Protected Status, Form I-821. Additional instructions are provided in this notice for individuals whose TPS applications remain pending and who would like to obtain an EAD valid through January 22, 2013.

DATES: Extension of TPS: The 18-month extension of the existing designation for Haiti is effective July 23, 2011, and will remain in effect through January 22, 2013. The 90-day re-registration period for current Haiti TPS beneficiaries will run from May 23, 2011 through August 22, 2011. Re-registration procedures will be announced prior to the start of the re-registration period.

Redesignation of TPS: The redesignation of Haiti for TPS is effective July 23, 2011, and will remain in effect through January 22, 2013, a period of 18 months. The initial registration period for new applicants under the Haiti TPS re-designation will run from May 19, 2011 through November 15, 2011.

FOR FURTHER INFORMATION CONTACT: • For further information on TPS, including guidance on the application process and additional information on eligibility, please visit the USCIS TPS Web page at http://www.uscis.gov/tps. You can find specific information about this TPS extension and re-designation of TPS for Haiti by selecting “TPS Designated Country—Haiti” from the menu on the left of the TPS Web page. From the Haiti page, you can select the Haiti TPS Questions & Answers Section from the menu on the right for further information.

• You can also contact the TPS Operations Program Manager at Status and Family Branch, Service Center Operations Directorate, U.S. Citizenship and Immigration Services, Department of Homeland Security, 20 Massachusetts Avenue, NW., Washington, DC 20529-2060 or by phone at (202) 272-1533 (this is not a toll-free number). Note: The phone number provided here is solely for questions regarding this TPS notice. It is not for individual case status inquiries. Applicants seeking information about the status of their individual cases can check Case Status Online available at the USCIS Web site at http://www.uscis.gov, or call the USCIS National Customer Service Center at 1-800-375-5283 (TTY 1-800-767-1833).

• Further information will also be available at local USCIS offices upon publication of this notice.

SUPPLEMENTARY INFORMATION:

Abbreviations and Terms Used in This Document

DHS—Department of Homeland Security

DOJ—Department of Justice

DOS—Department of State

EAD—Employment Authorization Document

GoH—Government of Haiti

IDP—Internally Displaced Person

INA—Immigration and Nationality Act

NGO—Nongovernmental Organizations

OSC—U.S. Department of Justice, Office of Special Counsel for Immigration Related Unfair Employment Practices

Secretary—Secretary of Homeland Security

TPS—Temporary Protected Status

UN—United Nations

UNICEF—United Nations Children's Fund

USAID—U.S. Agency for International Development

USCIS—U.S. Citizenship and Immigration Services

What is TPS?

• Temporary Protected Status (TPS) is an immigration status granted under the Immigration and Nationality Act (INA) to eligible nationals of a country designated for TPS (or to persons without nationality who last habitually resided in the designated country).

• During the TPS designation period, TPS beneficiaries are eligible to remain in the United States and to obtain work authorization documentation, so long as they continue to meet the terms and conditions of their TPS status.

• TPS beneficiaries may also be granted travel authorization as a matter of discretion.

• A grant of TPS does not lead to permanent resident status.

• When the Secretary terminates a country's TPS designation, beneficiaries return to the same immigration status they maintained before obtaining TPS (unless that status has since expired or been terminated) or to any other status they may have obtained while registered for TPS.

When was Haiti first designated for TPS?

On January 21, 2010, the Secretary designated Haiti for TPS based on extraordinary and temporary conditions within Haiti which prevented aliens who are nationals of Haiti (or persons without nationality who last habitually resided in Haiti) from returning to Haiti safely, specifically the effects of the 7.0-magnitude earthquake that occurred January 12, 2010. See 75 FR 3476; see also INA section 244(b)(1)(C), 8 U.S.C. 1254a(b)(1)(C).¹

¹ As of March 1, 2003, in accordance with section 1517 of title XV of the Homeland Security Act of 2002 (HSA), Public Law 107-296, 116 Stat. 2135, any reference to the Attorney General in a provision of the INA describing functions transferred under the HSA from the DOJ to the DHS “shall be deemed to refer to the Secretary” of Homeland Security. See 6 U.S.C. 557 (2003) (codifying HSA, tit. XV, sec. 1517).

What authority does the Secretary have to extend the designation of Haiti for TPS?

At least 60 days before the expiration of a country's TPS designation or extension, the Secretary, after consultation with appropriate agencies of the government, must review the conditions in a foreign State designated for TPS to determine whether the conditions for the TPS designation continue to be met. See INA section 244(b)(3)(A), 8 U.S.C. 1254a(b)(3)(A). If the Secretary determines that a foreign state continues to meet the conditions for TPS designation, the designation is extended for an additional 6 months (or in the Secretary's discretion for 12 or 18 months). See INA section 244(b)(3)(C), 8 U.S.C. 1254a(b)(3)(C). If the Secretary determines that the foreign state no longer meets the conditions for TPS designation, the Secretary must terminate the designation. See INA section 244(b)(3)(B), 8 U.S.C. 1254a(b)(3)(B).

What is the Secretary's authority to redesignate Haiti for TPS?

In addition to extending an existing TPS designation so that current beneficiaries may renew their TPS, the Secretary, after consultation with appropriate agencies of the government, may redesignate a country (or part thereof) for TPS. See INA section 244(b)(1), 8 U.S.C. 1254a(b)(1); see also INA section 244(c)(1)(A)(i), 8 U.S.C. 1254a(c)(1)(A)(i) (requiring that “the alien has been continuously physically present since the effective date of the most recent designation of the state”) (emphasis added). This is one of several instances in which the Secretary and, prior to the establishment of DHS, the Attorney General have simultaneously extended a country's TPS designation and redesignated the country for TPS. See, e.g., 69 FR 60168 (Oct. 7, 2004) (extension and redesignation for Sudan); 62 FR 16608 (Apr. 7, 1997) (extension and redesignation for Liberia).

When the Secretary designates or redesignates a country for TPS, she also has the discretion to establish the date from which TPS applicants must demonstrate that they have been “continuously resid[ing]” in the United States. See INA section 244(c)(1)(A)(ii). This discretion permits her to tailor the “continuous residence” date to offer TPS protection to the group of individuals that she deems most appropriate.

The Secretary has determined that the “continuous residence” date for applicants for Haiti TPS shall be changed from its original date of January 12, 2010, to January 12, 2011. See 75 FR 3476. Initial applicants for TPS under this redesignation must also show they have been “continuously physically present” in the United States since July 23, 2011, which is the effective date of the Secretary's most recent designation, or redesignation, of Haiti. See INA section 244(c)(1)(A)(i). For each initial TPS application filed under the redesignation, the final determination whether the applicant has met the “continuous physical presence” requirement cannot be made until July 23, 2011. USCIS, however, will issue employment authorization documentation, as appropriate, during the registration period in accordance with 8 CFR 244.5(b).

Why is the Secretary extending the TPS designation for Haiti and simultaneously re-designating Haiti for TPS?

Over the past year, DHS and the Department of State (DOS) have continued to review conditions in Haiti. Based on this review, and after consulting with DOS, the Secretary has determined that an 18-month extension of Haiti's TPS designation from July 23, 2011 through January 22, 2013, is warranted because the conditions prompting the original designation continue to be met. The Secretary has further determined that these same conditions in Haiti support redesignating Haiti for TPS under INA section 244(b)(1)(C) and changing the “continuous residence” and “continuous physical presence” dates so as to continue affording TPS protection to eligible Haitians who arrived in the United States before January 12, 2010 and to extend TPS protection to eligible Haitians who arrived between January 12, 2010 and January 12, 2011.

The January 12, 2010 earthquake has exacerbated Haiti's position as the least-developed country in the Western Hemisphere and one of the poorest in the world. According to the Central Intelligence Agency World Factbook (last updated on September 22, 2010), 80 percent of Haiti's population is living below the poverty line. Per capita gross domestic product is now under $2 per day, and comparative social and economic indicators continue to decline. Low revenue collection rates by the Government of Haiti (GoH)—barely over 10 percent of gross domestic product—remain insufficient for Haiti to provide adequate social services and to invest in physical and human capital.

According to the GoH, an estimated 230,000 people died and approximately three million were affected by the earthquake. In total, more than one million Haitians have been left homeless and are currently living in temporary camps. As of October 14, 2010, teams from international nongovernmental organizations (NGOs) and the GoH had conducted assessments of structures to determine habitability on 297,569 buildings out of an estimated 350,000 to 400,000 buildings destroyed by the earthquake. Roughly half of those buildings assessed were deemed safe for habitation with another 26 percent deemed possibly safe with repairs conducted. Approximately 21 percent of assessed homes thus far have been deemed unsafe, requiring major repairs or demolition.

Despite these assessments, DOS estimates that there are approximately 1,300 internally displaced persons (IDPs) camps in Haiti. Although statistical reports vary, the United Nations Children's Fund (UNICEF) reports that there are approximately 1.6 million IDPs, of which approximately 800,000 are children. The IDP camps are extremely crowded and are vulnerable to flooding, crime (including gender-based violence), and disease.

International NGOs report that primary healthcare services are available at 160 fixed and mobile sites. Thirty-one percent of these sites are supported by USAID and the Office of U.S. Foreign Disaster Assistance. The current cholera outbreak in Haiti is evidence of the vulnerability of the public health sector of Haiti. Although statistical reports have varied, the GoH Ministry of Public Health and Population reported 199,497 cholera cases, including 112,656 hospitalizations and 3,927 deaths. Health officials and aid organizations believe the outbreak may spread nationwide. In efforts to contain the outbreak, a network of cholera treatment centers has been created.

Based on this review and after consultation with the appropriate Government agencies, the Secretary has determined that:

• The conditions that prompted the January 21, 2010 designation of Haiti for TPS continue to be met. See INA sections 244(b)(3)(A) and (C), 8 U.S.C. 1254a(b)(3)(A) and (C).

• Nationals of Haiti (and persons without nationality who last habitually resided in Haiti) still cannot safely return to Haiti due to continued extraordinary and temporary conditions. See INA section 244(b)(1)(C), 8 U.S.C. 1254a(b)(1)(C).

• It is not contrary to the national interest of the United States to permit aliens who meet the eligibility requirements for TPS to remain in the United States temporarily. See INA section 244(b)(1)(C), 8 U.S.C. 1254a(b)(1)(C).

• The TPS designation of Haiti should be extended for an additional 18-month period from July 23, 2011 through January 22, 2013. See INA section 244(b)(3)(C), 8 U.S.C. 1254a(b)(3)(C).

• Haiti should be simultaneously redesignated for TPS effective July 23, 2011 through January 22, 2013. See INA sections 244(b)(1)(C) and (b)(2), 8 U.S.C. 1254a(b)(1)(C) and (b)(2).

• It is appropriate to change the date by which TPS applicants must demonstrate that they have continuously resided in the United States from January 12, 2010 to January 12, 2011.

• The date by which TPS applicants must demonstrate that they have been continuously physically present in the United States is July 23, 2011, the effective date of the redesignation of Haiti for TPS.

• There are approximately 47,000 current Haiti TPS beneficiaries who are expected to be eligible to re-register for TPS under the extension.

• It is estimated that approximately 10,000 additional individuals may be eligible for TPS under the redesignation of Haiti.

Why is the Secretary changing the “continuous residence” date from January 12, 2010 to January 12, 2011?

In the aftermath of the earthquake in Haiti, additional Haitian nationals were lawfully admitted to the United States as nonimmigrants or were granted humanitarian parole for emergency reasons. As described in this notice, the devastating impact of the January 12, 2010 earthquake continues to create extraordinary and temporary conditions that prevent aliens who are nationals of Haiti from safely returning to Haiti. Therefore, the Secretary has determined, in her discretion, that it is appropriate for DHS to extend TPS to eligible Haitians who arrived in the United States between January 12, 2010, and January 12, 2011, so that they will not be subject to removal while in TPS and can obtain work authorization to support themselves until they are able to return safely to Haiti.

Notice of Extension of TPS for Haiti and Re-designation of Haiti for TPS through January 22, 2013

By the authority vested in me as Secretary of Homeland Security under section 244 of the INA, 8 U.S.C. 1254a, I have determined, after consultation with the appropriate government agencies, that the conditions that prompted the original designation of Haiti for temporary protected status on January 21, 2010, continue to be met. See INA section 244(b)(3)(A), 8 U.S.C. 1254a(b)(3)(A). On the basis of this determination, I am simultaneously extending the existing TPS designation of Haiti for 18 months from July 23, 2011 through January 22, 2013, and redesignating Haiti for TPS for 18 months effective July 23, 2011 through January 22, 2013. See INA sections 244(b)(1)(C) and (b)(2), 8 U.S.C. 1254a(b)(1)(C) and (b)(2). I am also changing the “continuous residence” date from January 12, 2010 to January 12, 2011. See INA section 244(c)(1)(A)(ii), 8 U.S.C. 1254a(c)(1)(A)(ii).

Janet Napolitano,
Secretary.

How do I know whether I should wait until May 23, 2011, to apply for re-registration under the extension of TPS or whether I should file an initial TPS application now under the re-designation of Haiti?

Table 1 below will help you decide if you should file for re-registration under the extension of TPS for Haiti or if you should file an initial application under the re-designation of Haiti for TPS.

Table 1—Re-Registration Filing Versus Initial Filing
If . . . | And . . . | Then . . .
You filed a TPS application under the initial designation of Haiti during the registration period January 21, 2010 through January 18, 2011, or filed after January 18 under the fee waiver cure. | Your application was approved by May 19, 2011 | You need to re-register under the extension by filing a Form I-821 application and Form I-765 during the re-registration period May 23, 2011 through August 22, 2011.
You filed a TPS application under the initial designation of Haiti during the registration period January 21, 2010 through January 18, 2011, or filed after January 18 under the fee waiver cure. | Your application is still pending as of May 19, 2011 | You do not yet have TPS and your pending Form I-821 will be treated as an initial application under the redesignation. You do not need to file a new Form I-821. Please see Table 2 to determine if you need to file a new Form I-765.
You filed a TPS application under the initial designation of Haiti during the registration period January 21, 2010 through January 18, 2011, or filed after January 18 under the fee waiver cure. | Your application was denied before May 19, 2011, and you believe you may be eligible for TPS under the redesignation | You may be covered under the re-designation and you need to file an initial application during the registration period May 19, 2011 through November 15, 2011.
You never filed a TPS application under the initial designation of Haiti | You believe you may be eligible for TPS under the redesignation | You may be covered under the re-designation and you need to file an initial application during the registration period May 19, 2011 through November 15, 2011.

I have been granted TPS. If the re-registration period does not begin until May 2011, does my current TPS continue through January 22, 2013?

Although an individual's TPS continues until it is withdrawn or terminated, your TPS will be withdrawn if you fail to re-register during the May 23, 2011 through August 22, 2011 period, or if USCIS does not approve your re-registration application. The forthcoming Federal Register notice, to be published in May 2011, regarding re-registration will explain the requirements, fees, and fee waiver procedures. Please do not submit your re-registration application before May 23rd or it will be rejected, and you will need to re-file when the re-registration period opens. Given the timeframes involved with processing TPS re-registration applications, and because the re-registration period will not open until May 23, 2011, DHS recognizes the possibility that re-registrants may not receive new EADs until after their current EADs expire on July 22, 2011. Accordingly, the May 2011 Federal Register notice explaining the re-registration procedures will also extend the validity of EADs issued under the original TPS designation of Haiti for an additional 6 months, through January 22, 2012. That notice will provide further details for re-registration and explanations of the 6-month automatic extension of EADs that expire on July 22, 2011.

I have a pending TPS application filed during the original Haiti TPS registration period that ran from January 21, 2010 through January 18, 2011. What should I do?

If your TPS application is still pending on May 19, 2011, then you will not need to file a new Application for Temporary Protected Status, Form I-821. Pending TPS applications will be treated as initial applications under the re-designation. Therefore, if your TPS application is approved, you will be granted TPS through January 22, 2013. If you have a pending TPS application and you wish to have an EAD valid through January 22, 2013, please look at Table 2 below to determine whether you should file a new Application for Employment Authorization, Form I-765. If you do need to file a new Form I-765, wait until the re-registration period opens May 23, 2011, before filing your application.

Table 2—EAD Information for Still Pending TPS Applications
If . . . | And . . . | Then . . . | But if . . .
You requested an EAD during the original registration period for Haiti TPS | You received an EAD with Category C19 or A12 | You must file a new Form I-765 with fee (or fee waiver request) during the re-registration period that opens May 23, 2011 if you wish to have a new EAD valid through January 22, 2013 | Your Form I-821 is denied before the re-registration period opens May 23, 2011, then DO NOT file a new Form I-765. If you file a new Form I-765, it will be denied due to the denial of your Form I-821.
You requested an EAD during the original registration period for Haiti TPS | You did not receive an EAD with Category C19 or A12 | You do not need to file a new Form I-765. If your TPS application is approved, your Form I-765 will be approved through January 22, 2013 |
You did not request an EAD during the original registration period for Haiti TPS | You wish to have an EAD valid through January 22, 2013 | You must file a new Form I-765 with fee (or fee waiver request) during the re-registration period that opens May 23, 2011 | Your Form I-821 is denied before the re-registration period opens on May 23, 2011, then DO NOT file a new Form I-765. If you file a new Form I-765, it will be denied due to the denial of your Form I-821.
You did not request an EAD during the original registration period | You do not wish to have an EAD valid through January 22, 2013 | You do not need to file a new Form I-765 |

I am not a TPS beneficiary and I do not have a TPS application pending. What are the procedures for Initial Registration for TPS under the Redesignation?

Individuals who do not yet have Haiti TPS or a pending application for TPS may submit their TPS applications during the 180-day initial registration period that will run from May 19, 2011 through November 15, 2011.

The remainder of this Federal Register notice provides the procedures for initial registration under the redesignation. The following procedures do not apply to individuals who have already been granted TPS under the original designation of Haiti. Re-registration procedures for current TPS beneficiaries will be announced in a subsequent Federal Register notice that will be published in May.

Required Application Forms and Application Fees To Register Initially for TPS

To register for TPS for the first time, an applicant must submit:

1. Application for Temporary Protected Status, Form I-821 and pay the Form I-821 application fee, which is $50, and

2. Application for Employment Authorization, Form I-765.

• If you want an EAD, you must pay the Form I-765 fee only if you are age 14 through 65. No EAD fee is required if you are under the age of 14 or over the age of 65 and filing for initial TPS registration.

• You do not pay the Form I-765 fee if you are not requesting an EAD.

Individuals who are in removal proceedings will be provided an opportunity to apply for TPS in accordance with 8 CFR 244.7(d) and 1244.7(d).

You must submit both completed application forms together. If you are unable to pay, you may apply for application and/or biometrics fee waivers by completing Request for Fee Waiver, Form I-912, or submitting your own request for a fee waiver, and providing satisfactory supporting documentation. For more information on the application forms and application fees for TPS, please visit the USCIS TPS Web page at http://www.uscis.gov/tps and click on Temporary Protected Status for Haiti. Fees for the Form I-821, Form I-765, and biometrics fee are also described in 8 CFR 103.7(b).

Biometric Services Fee

Biometrics (such as fingerprints) are required for all applicants 14 years of age or older. Those applicants must submit a biometric services fee. As previously stated, if you are unable to pay, you may apply for a biometrics fee waiver by completing Form I-912 or your own request for a fee waiver, and providing satisfactory supporting documentation. For more information on the biometric services fee, please visit the USCIS Web site at http://www.uscis.gov.

Mailing Information

Mail your application for TPS to the proper address in Table 3:

Table 3-Mailing Addresses
If you live in . . . | For regular mail, send to . . . | For express mail and courier deliveries, send to . . .
The state of Florida | USCIS, P.O. Box 4464, Chicago, IL 60680-4464 | USCIS, Attn: Haiti TPS, 131 South Dearborn, 3rd Floor, Chicago, IL 60603-5520.
The state of New York | USCIS, P.O. Box 660167, Dallas, TX 75266-0167 | USCIS, Attn: Haiti TPS, 2501 S. State Hwy. 121, Business, Suite 400, Lewisville, TX 75067.
All other states | USCIS, P.O. Box 24047, Phoenix, AZ 85074-4047 | USCIS, Attn: Haiti TPS, 1820 E. Skyharbor Circle S, Suite 100, Phoenix, AZ 85034.

E-Filing

You cannot e-file your application when applying for initial registration for TPS. Please mail your application to the mailing address listed in Table 2 above.

Employment Authorization Document (EAD)

May I request an interim EAD at my local USCIS office?

No. USCIS will not issue interim EADs to TPS applicants at local offices.

What documents may I show to my employer as proof of employment authorization and identity for Form I-9 (Employment Eligibility Verification form)?

To complete Form I-9 for new hires, an employee must present his or her employer with proof of identity and employment authorization. For reverification, an employee needs to provide proof of continued employment authorization. Document choices are listed on the Lists of Acceptable Documents on page 5 of Form I-9. An EAD is listed as an acceptable document under “List A.” Therefore, TPS beneficiaries under this redesignation of Haiti who have timely registered with USCIS as directed under this notice and obtained an EAD may present their valid EAD to their employers as proof of employment authorization and identity. In the alternative, employees may present any other legally acceptable document or combination of documents listed on the Form I-9 as proof of identity and employment authorization.

Employers may not request proof of Haitian citizenship when completing Form I-9. Employers should accept a valid EAD so long as the EAD reasonably appears on its face to be genuine and to relate to the employee.

Note to Employers: Employers are reminded that the laws requiring employment eligibility verification and prohibiting unfair immigration-related employment practices remain in full force. This notice does not supersede or in any way limit applicable employment verification rules and policy guidance, including those rules setting forth reverification requirements. For questions, employers may call the USCIS Customer Assistance Office at 1-800-357-2099. Employers may also call DOJ's Office of Special Counsel for Immigration Related Unfair Employment Practices (OSC) Employer Hotline at 1-800-255-8155.

Note to Employees: Employees or applicants may call the OSC Employee Hotline at 1-800-255-7688 for information regarding employment problems. Additional information is available on the OSC Web site at http://www.justice.gov/crt/osc/.

Note Regarding State and Local Government Agencies (Such as Departments of Motor Vehicles): State and Local government agencies are permitted to create their own guidelines when granting certain benefits, such as a driver's license or an identification card. Each state may have different laws and requirements pertaining to the documents that may be used to prove eligibility for certain benefits. If you are applying for a state or local government benefit, you should take all documents that show that you are a TPS beneficiary to the state or local government agency. Examples are:

(1) A copy of your Form I-821 Approval Notice (I-797), and

(2) Your EAD that has a valid expiration date (if you have a TPS-based EAD).

[FR Doc. 2011-12440 Filed 5-18-11; 8:45 am]

BILLING CODE 9111-97-P